INTERNATIONAL TRADE COMMISSION

[USITC SE-23-012]

Sunshine Act Meetings

Agency Holding the Meeting: United States International Trade Commission.

TIME AND DATE: January 23, 2023 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-669 (Fifth Review) (Cased Pencils from China). The Commission currently is scheduled to complete and file its determinations and views of the Commission on March 3, 2023.

5. Outstanding action jackets: none.

The Commission is holding this meeting under the Government in the Sunshine Act, 5 U.S.C. 552(b). In accordance with Commission policy, subject matter listed above, not disposed of at the scheduled meeting, may be carried over to the agenda of the following meeting.

CONTACT PERSON FOR MORE INFORMATION: Sharon Bellamy, 202-205-2595.

By order of the Commission.
Issued: February 13, 2023.
Lisa R. Barton,
Secretary to the Commission.

[FR Doc. 2023-03301 Filed 2-13-23; 4:15 pm]

BILLING CODE 7020-02-P